DEPARTMENT OF HOMELAND SECURITY

Transportation Security Administration

Post Security Grant Program: Application Notice Describing the Program and Establishing the Closing Date for Receipt of Applications Under the Port Security Grant Program

AGENCY: Transportation Security Administration, Department of Homeland Security.

ACTION: Notice inviting applications under the Port Security Grant Program.

SUMMARY: The purpose of the Port Security Grant Program is to support efforts for port security at critical national seaports in the area of enhanced facility and operational security.

The Port Security Grant Program will fund projects in the Enhanced Facility and Operational Security Category. The Transportation Security Administration (TSA) is coordinating with the Maritime Administration, the U.S. Coast Guard, and the Department of Homeland Security's Office of State and Local Coordination in this effort. Applications may be submitted by federally regulated critical national seaports, terminals, U.S. inspected passenger vessels, or ferries as specified in the Funding Opportunity Announcement. Authority for this program was first contained in the Fiscal Year 2002 DOD Supplemental Appropriations Act under Pub. L. 107-117. Funds appropriated from the 2004 appropriations for the Department of Homeland Security, Pub. L. 108-90 are being awarded under the Port Security Grant Program—Round 4.

DATES: The program announcement and application forms for the Port Security Grant Program—Round 4 are expected to be available on or about Wednesday, May 5, 2004. Applications must be received on or before 3 p.m. eastern daylight savings time on Wednesday, June 9, 2004.

ADDRESSES: Information about this funding opportunity is available through TSA Internet site at http://www.tsa.gov under Industry Partners and Business Opportunities, at http://www.fedgrants.gov, and applicable trade magazines. The Request for Applications, forms and instructions for preparing and submitting an application for the Port Security Grant Program will be available through https://www.portsecuritygrants.dottsa.net/.

FOR FURTHER INFORMATION CONTACT: Ms. Lynn Bagorazzi, Transportation Security Administration, Office of Maritime and Land Security, (571) 227-2818, e-mail: portsecuritygrants@dhs.gov.

SUPPLEMENTARY INFORMATION: Total anticipated funding available for the Port Security Grant Program—Round 4 is $49,500,000. Awards under this program are subject to the availability of funds.

Port Security Grant Program—Round 4 Category: Enhanced Facility and Operational Security which includes but is not limited to: access control, physical security, surveillance, communication, cargo security, and passenger security.

This program has the following prerequisites: In compliance with the Maritime Transportation Security Act (MTSA), applicants are required to be owners/operators of federally regulated public or private ports, terminals, U.S. inspected passenger vessels, or ferries as defined in 33 CFR Part 101, 140, 105, 106. Grant-funded activity must take place within the footprint of the regulated port, terminal U.S. inspected passenger vessel, or ferry.

In addition, applicants must have completed a security assessment and tie the security enhancements to their assessment in order to submit an eligible grant application. Security assessments must be available for review upon the request of the evaluators.

In addition, TSA must analyze the potential environmental impacts, as required by the National Environmental Policy Act (NEPA), for projects being considered for Federal funding. The purpose of the NEPA review is to weigh the impacts of major Federal actions (such as security enhancements) on elements such as adjacent communities, water supplies, historical buildings or culturally sensitive areas prior to construction. Consequently, applicants may be required to provide additional detailed information on the activities to be conducted, locations sites, possible construction activities, and any environmental concerns that may exist. Results of the NEPA Compliance Review could result in a project not being approved for funding.

Dated: April 30, 2004.
Chester Lunner,
Assistant Administrator, Office of Maritime and Land Security, Transportation Security Administration.

[FR Doc. 04-10218 Filed 5-4-04; 8:45 am]

BILLING CODE 4910-62-M